DEPARTMENT OF ENERGY

Federal Energy Regulatory Commission

Combined Notice of Filings #1

March 23, 2007.

Take notice that the Commission received the following electric corporate filings:

Docket Numbers: EC07-42-000.

Applicants: North Allegheny Wind, LLC, B&B Wind Portfolio 1 LLC, Babcock & Brown Wind Partners-U.S. LLC, Aragonne Wind LLC, Allegheny Ridge Wind Farm, LLC, Mendota Hills, LLC, BBPOP Wind Equity LLC, GSG, LLC.

Description: Consummation Notice of BBPOP Wind Equity LLC, et al. of Phase 1 of transaction.

Filed Date: 03/19/2007.

Accession Number: 20070319-5081.

Comment Date: 5 p.m. Eastern Time on Monday, April 09, 2007.

Take notice that the Commission received the following electric rate filings:

Docket Numbers: ER07-150-003.

Applicants: Public Service Company of New Mexico.

Description: Public Service Company of New Mexico submits an errata to its filings made on 11/2/06 and 2/9/07.

Filed Date: 03/20/2007.

Accession Number: 20070322-0156.

Comment Date: 5 p.m. Eastern Time on Tuesday, April 10, 2007.

Docket Numbers: ER07-205-000, ER07-205-001.

Applicants: Ameren Energy Marketing Company, Union Electric Company, Ameren Energy, Ameren Energy Marketing Company, Central Illinois Light Company, Central Illinois Public Service Company, Illinois Power Company.

Description: Central Illinois Light Co dba AmerenCILCO et al request to withdraw their 11/9/06 filing because no affiliate sales would take place in connection with the application.

Filed Date: 03/19/2007.

Accession Number: 20070322-0043.

Comment Date: 5 p.m. Eastern Time on Monday, April 09, 2007.

Docket Numbers: ER07-385-001.

Applicants: American Electric Power Service Corporation.

Description: American Electric Power Service Corp on behalf of Public Service Company of Oklahoma et al submits revisions to its OATT, Third Revised Volume No. 6.

Filed Date: 03/01/2007.

Accession Number: 20070320-0013.

Comment Date: 5 p.m. Eastern Time on Friday, March 30, 2007.

Docket Numbers: ER07-628-000.

Applicants: Entergy Arkansas, Inc.

Description: Entergy Services, Inc on behalf of Entergy Arkansas, Inc submits the 2007 Wholesale Formula Rate Update applicable to the Cities of Hope, Thayer, Campbell, North Little Rock, West Memphis and Prescott.

Filed Date: 03/13/2007.

Accession Number: 20070322-0006.

Comment Date: 5 p.m. Eastern Time on Tuesday, April 03, 2007.

Docket Numbers: ER07-638-000.

Applicants: Maine Public Service Company.

Description: Maine Public Service Company submits informational filing setting forth the changed loss factor effective 3/1/07 together with back-up materials.

Filed Date: 03/15/2007.

Accession Number: 20070321-0063.

Comment Date: 5 p.m. Eastern Time on Thursday, April 05, 2007.

Docket Numbers: ER07-640-000.

Applicants: Citadel Energy Investments Ltd.

Description: Citadel Energy Investments Ltd submits its petition for acceptance of Initial Rate Schedule, Waivers, and Blanket Authorization.

Filed Date: 03/21/2007.

Accession Number: 20070322-0157.

Comment Date: 5 p.m. Eastern Time on Wednesday, April 11, 2007.

Docket Numbers: ER07-641-000.

Applicants: Puget Sound Energy, Inc.

Description: Puget Sound Energy, Inc submits notice of succession reflecting the adoption of Goldendale's Rate Schedule FERC 2 for sales of reactive power from the Golden Facility etc pursuant to FERC's 2/1/07 Order.

Filed Date: 03/21/2007.

Accession Number: 20070323-0177.

Comment Date: 5 p.m. Eastern Time on Wednesday, April 11, 2007.

Docket Numbers: ER07-642-000.

Applicants: Southern Companies Services, Inc.

Description: Southern Co Services, acting as agent for Alabama Power Co et al submits a notice of adoption of revised transmission loading relief procedures.

Filed Date: 03/21/2007.

Accession Number: 20070323-0178.

Comment Date: 5 p.m. Eastern Time on Wednesday, April 11, 2007.

Docket Numbers: ER97-504-011.

Applicants: Pacific Northwest Generating Cooperative, Inc.

Description: PNGC Power submits updated market analysis and request for continued authority to transact pursuant to market-based rate authority.

Filed Date: 03/16/2007.

Accession Number: 20070321-0110.

Comment Date: 5 p.m. Eastern Time on Friday, April 06, 2007.

Take notice that the Commission received the following electric securities filings:

Docket Numbers: ES07-27-000.

Applicants: Detroit Edison Company.

Description: The Detroit Edison Company's application for an order authorizing short-term securities bearing final maturity dates not to exceed one year after issue.

Filed Date: 03/19/2007.

Accession Number: 20070321-0058.

Comment Date: 5 p.m. Eastern Time on Monday, April 09, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-5773 Filed 3-28-07; 8:45 am]

BILLING CODE 6717-01-P